DEPARTMENT OF COMMERCE

National Oceanic and Atmospheric Administration

RIN 0648-XC44

Endangered Species; File No. 1557-03

AGENCY: National Marine Fisheries Service (NMFS), National Oceanic and Atmospheric Administration (NOAA), Commerce.

ACTION: Notice; issuance of permit modification.

SUMMARY: Notice is hereby given that Molly Lutcavage has been issued a modification to scientific research Permit No. 1557.

ADDRESSES: The modification and related documents are available for review upon written request or by appointment in the following office:

Permits, Conservation and Education Division, Office of Protected Resources, NMFS, 1315 East-West Highway, Room 13705, Silver Spring, MD 20910; phone (301) 713-2289; fax (301) 427-2521.

FOR FURTHER INFORMATION CONTACT: Patrick Opay or Kate Swails, (301) 713-2289.

SUPPLEMENTARY INFORMATION: On May 3, 2007, notice was published in the Federal Register (72 FR 24565) that a modification of Permit No. 1557 had been requested by the above-named individual. The requested modification has been granted under the authority of the Endangered Species Act of 1973, as amended (ESA; 16 U.S.C. 1531 et seq.) and the regulations governing the taking, importing, and exporting of endangered and threatened species (50 CFR 222-226).

The researchers will attach satellite-linked data recorders to the leatherback sea turtle's carapace and feed stomach temperature pills to the animals. These pills will record stomach temperatures and transmit them to the satellite-linked data recorder for transmission to the researchers. Researchers will also attach diary tags using suction cups. This research will help better understand where, when, and under what environmental conditions leatherback sea turtles forage so as to better predict their movements. This information will be used to help predict leatherback movements and potential interactions with fisheries and other human activities to allow resource managers to design management strategies to protect this species.

Issuance of this modification, as required by the ESA was based on a finding that such permit (1) Was applied for in good faith, (2) will not operate to the disadvantage of such endangered or threatened species, and (3) is consistent with the purposes and policies set forth in section 2 of the ESA.

Dated: September 5, 2007.
P. Michael Payne,
Chief, Permits, Conservation and Education Division, Office of Protected Resources, National Marine Fisheries Service.

[FR Doc. E7-17899 Filed 9-10-07; 8:45 am]

BILLING CODE 3510-22-S